DEPARTMENT OF COMMERCE

International Trade Administration

[A-588-815]

Gray Portland Cement and Cement Clinker From Japan: Final Results of Expedited Fourth Sunset Review of the Antidumping Duty Order

AGENCY: Enforcement and Compliance, International Trade Administration, Department of Commerce.

SUMMARY: The Department of Commerce (the Department) has conducted an expedited (120-day) fourth sunset review of the antidumping duty order on gray portland cement and cement clinker (cement and clinker) from Japan. As a result of this fourth sunset review, the Department finds that revocation of the antidumping duty order would be likely to lead to continuation or recurrence of dumping at the levels indicated in the “Final Results of Review” section of this notice.

DATES: Effective Date: March 6, 2017.

FOR FURTHER INFORMATION CONTACT: Amanda Brings, AD/CVD Operations, Enforcement and Compliance, International Trade Administration, U.S. Department of Commerce, 1401 Constitution Ave. NW., Washington, DC 20230; telephone: (202) 482-3927.

SUPPLEMENTARY INFORMATION:

Background

On November 1, 2016, the Department published a notice of initiation of the fourth sunset review of the antidumping duty order on cement and clinker from Japan.¹ On November 16, 2016, the Department received a Notice of Intent to Participate in this review from the Committee for Fairly Traded Japanese Cement (Petitioners) within the deadline specified in 19 CFR 351.218(d)(1)(i).² Petitioners claimed interested-party status under section 771(9)(E) of the Tariff Act of 1930, as amended (the Act), as a trade or business association, a majority of whose members manufacture, produce or wholesale a domestic like product in the United States.

¹ See Initiation of Five-Year (“Sunset”) Reviews, 81 FR 75808 (November 1, 2016).

² See Letter to the Secretary of Commerce from Petitioners, re: “Five-Year (`Sunset') Review of Antidumping Duty Order on Gray Portland Cement and Cement Clinker from Japan: The Domestic Industry's Notice of Intent to Participate in Sunset Review,” dated November 16, 2016.

We received a complete substantive response from Petitioners within the 30-day deadline specified in 19 CFR 351.218(d)(3)(i).³ We received no responses from respondent interested parties. As a result, the Department conducted an expedited sunset review of the order, pursuant to section 751(c)(3)(B) of the Act and 19 CFR 351.218(e)(1)(ii)(C)(2).

³ See Letter to the Secretary of Commerce from Petitioners, re: “Fourth Five-Year (`Sunset') Review of The Antidumping Duty Order on Gray Portland Cement and Cement Clinker from Japan/The Domestic Industry's Substantive Response to the Notice of Initiation,” dated December 1, 2016.

Scope of the Order

The products covered by the order are cement and cement clinker from Japan. Cement is a hydraulic cement and the primary component of concrete. Cement clinker, an intermediate material produced when manufacturing cement, has no use other than grinding into finished cement. Microfine cement was specifically excluded from the antidumping duty order. Cement is currently classifiable under the Harmonized Tariff Schedule (HTS) item number 2523.29 and cement clinker is currently classifiable under HTS item number 2523.10. Cement has also been entered under HTS item number 2523.90 as “other hydraulic cements.” The HTS item numbers are provided for convenience and customs purposes. The written product description remains dispositive as to the scope of the product covered by the order.⁴

⁴ The Department has made two scope rulings regarding subject merchandise. See Scope Rulings, 57 FR 19602 (May 7, 1992) (classes G and H of oil well cement are within the scope of the order), and Scope Rulings, 58 FR 27542 (May 10, 1993) (“Nittetsu Super Fine” cement is not within the scope of the order).

Analysis of Comments Received

All issues raised in this review, including the likelihood of continuation or recurrence of dumping in the event of revocation and the magnitude of the margins likely to prevail if the order were revoked, are addressed in the accompanying Issues and Decision Memorandum.⁵ The Issues and Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Issues and Decision Memorandum can be accessed directly on the Internet at http://enforcement.trade.gov/frn/. The signed Issues and Decision Memorandum and the electronic version of the Issues and Decision Memorandum are identical in content.

⁵ See Memorandum to Ronald K. Lorentzen, Acting Assistant Secretary for Enforcement and Compliance, from James Maeder, Senior Director, Office I, Antidumping and Countervailing Duty Operations, “Issues and Decision Memorandum for the Final Results of the Expedited Fourth Sunset Review of the Antidumping Duty Order on Gray Portland Cement and Clinker from Japan,” dated concurrently and hereby adopted by this notice (Issues and Decision Memorandum).

Final Results of Review

Pursuant to sections 751(c) and 752(c)(1) and (3) of the Act, we determine that revocation of the antidumping duty order on cement and clinker from Japan would be likely to lead to continuation or recurrence of dumping at weighted-average dumping margins up to 69.89 percent.

Administrative Protective Order

This notice also serves as the only reminder to parties subject to administrative protective order (“APO”) of their responsibility concerning the return or destruction of proprietary information disclosed under APO in accordance with 19 CFR 351.305. Timely notification of the return of destruction of APO materials or conversion to judicial protective order is hereby requested. Failure to comply with the regulations and terms of an APO is a violation which is subject to sanction.

This sunset review and notice are in accordance with sections 751(c), 752(c), and 777(i)(1) of the Act.

Dated: February 27, 2017.
Ronald K. Lorentzen,
Acting Assistant Secretary for Enforcement and Compliance.

[FR Doc. 2017-04262 Filed 3-3-17; 8:45 am]

BILLING CODE 3510-DS-P